ENVIRONMENTAL PROTECTION AGENCY

[FRL-9928-84-OA]

Notification of Three Teleconferences of the Science Advisory Board Biogenic Carbon Emissions Panel

AGENCY: Environmental Protection Agency (EPA).

ACTION: Notice.

SUMMARY: The Environmental Protection Agency (EPA or Agency) Science Advisory Board (SAB) Staff Office announces three teleconferences of the SAB Biogenic Carbon Emissions Panel to review EPA's Framework for Assessing Biogenic CO2 Emissions from Stationary Sources (November 2014).

DATES: The public teleconferences will be held on July 6, 2015 from 11:00 a.m. to 2:00 p.m. (Eastern Time), August 6, 2015 from 11:00 a.m. to 2:00 p.m. (Eastern Time) and September 9, 2015 from 11:00 a.m. to 2:00 p.m. (Eastern Time).

ADDRESSES: The teleconferences will be held by telephone only.

FOR FURTHER INFORMATION CONTACT: Any member of the public wishing further information regarding the public teleconferences may contact Dr. Holly Stallworth, Designated Federal Officer (DFO), SAB Staff Office, by telephone/voice mail at (202) 564-2073 or via email at stallworth.holly@epa.gov. General information concerning the EPA Science Advisory Board can be found at the EPA SAB Web site at http://www.epa.gov/sab.

SUPPLEMENTARY INFORMATION:

Background: The SAB was established pursuant to the Environmental Research, Development, and Demonstration Authorization Act (ERDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. App. 2) and related regulations. Pursuant to FACA and EPA policy, notice is hereby given that the SAB Biogenic Carbon Emissions Panel will hold three public teleconferences to review its draft report on EPA's Framework for Assessing Biogenic CO2 Emissions from Stationary Sources (November 2014). The SAB will comply with the provisions of FACA and all appropriate SAB Staff Office procedural policies.

As noticed in 80 FR 8867-8868, a face-to-face meeting of the Biogenic Carbon Emissions Panel was held on March 25 and 26, 2015 and a teleconference was held on May 29, 2015. Background on the current advisory activity can be found on the SAB Web site at http://yosemite.epa.gov/sab/sabproduct.nsf/fedrgstr_activites/Biogenic%20CO2%20Framework?OpenDocument.

Availability of the meeting materials: Agendas and meeting materials will be posted on the SAB Web site prior to each teleconference. To locate these materials, go to epa.gov/sab and click on the calendar and then the respective teleconference dates. EPA's review document, charge to the Panel and other background materials are also available at the URL above. For questions concerning EPA's Framework for Assessing Biogenic CO2 Emissions from Stationary Sources (November 2014), please contact Sara Ohrel, Climate Change Division, at ohrel.sara@epa.gov or (202) 343-9712.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments on the topic of this advisory activity, including the charge to the panel and the EPA review documents, and/or the group conducting the activity, for the SAB to consider during the advisory process. Input from the public to the SAB will have the most impact if it consists of comments that provide specific scientific or technical information or analysis for the SAB panel to consider or if it relates to the clarity or accuracy of the technical information.

Oral Statements: In general, individuals or groups requesting an oral presentation will be limited to three minutes per speaker for each teleconference. Interested parties should contact Dr. Holly Stallworth, DFO, in writing (preferably via email), at the contact information noted above, by June 29, 2015 to be placed on the list of public speakers for the July 6, 2015 teleconference; by July 30, 2015 for the August 6, 2015 teleconference; and by September 2, 2015 for the September 9, 2015 teleconference. Written Statements: Written statements should be received in the SAB Staff Office in advance of each teleconference according to the same deadlines listed above for requesting oral comments. Written statements should be supplied to the DFO, preferably in electronic format via email. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Stallworth at the phone number or email address noted above, preferably at least ten days prior to the meeting, to give EPA as much time as possible to process your request.

Dated: May 28, 2015.
Thomas H. Brennan,
Deputy Director, EPA Science Advisory Board Staff Office.

[FR Doc. 2015-13803 Filed 6-4-15; 8:45 am]

BILLING CODE 6560-50-P